DEPARTMENT OF AGRICULTURE

Board of Directors Meeting

AGENCY: Rural Telephone Bank, USDA.

ACTION: Staff briefing for the board of directors.

Time and Date: 2 p.m., Thursday, February 12, 2004.

Place: Fountainebleau Hilton Resort, 4441 Collins Ave., Miami Beach, FL 33140, Conference Room 1.

Status: Open.

Matters To Be Discussed:

1. Fiscal Year 2003 Audit.

2. Broadband Program update.

3. Privatization discussion.

4. Administrative and other issues.

ACTION: Board of Directors meeting.

Time and Date: 9 a.m., Friday, February 13, 2004.

Place: Fountainebleau Hilton Resort, 4441 Collins Ave., Miami Beach, FL 33140, Imperial V Board Room.

Status: Open.

Matters To Be Considered: The following matters have been placed on the agenda for the Board of Directors meeting:

1. Call to order.

2. Action on Minutes of the November 14, 2003, board meeting.

3. Secretary's Report on loans approved.

4. Treasurer's Report.

5. Report on loan rescissions.

6. Discussion on Privatization Study and issuance of Request for Proposal.

7. Discussion on retirement of Class A stock.

8. Governor's Remarks.

9. Adjournment.

FOR FURTHER INFORMATION CONTACT: Roberta D. Purcell, Assistant Governor, Rural Telephone Bank, (202) 720-9554.

Dated: February 2, 2004.
Hilda Legg,
Governor, Rural Telephone Bank.

[FR Doc. 04-2557 Filed 2-2-04; 4:59 pm]

BILLING CODE 3410-15-P